DEPARTMENT OF COMMERCE

International Trade Administration

[A-552-802]

Certain Frozen Warmwater Shrimp From the Socialist Republic of Vietnam: Final Results and Final Partial Rescission of Antidumping Duty Administrative Review

AGENCY: Import Administration, International Trade Administration, Department of Commerce.

SUMMARY: On March 7, 2012, the Department of Commerce (“Department”) published in the Federal Register the Preliminary Results of the 6th administrative review of the antidumping duty order on certain frozen warmwater shrimp (“shrimp”) from the Socialist Republic of Vietnam (“Vietnam”).¹ Based upon our analysis of the comments, we made changes to the margin calculations for the final results.

¹ See Certain Frozen Warmwater Shrimp From the Socialist Republic of Vietnam: Preliminary Results of Administrative Review, 77 FR 13547 (March 7, 2012).

DATES: Effective Date: September 11, 2012.

FOR FURTHER INFORMATION CONTACT: Toni Dach or Seth Isenberg, AD/CVD Operations, Office 9, Import Administration, International Trade Administration, Department of Commerce, 14th Street and Constitution Avenue NW, Washington, DC 20230; telephone: (202) 482-1655 or (202) 482-0588, respectively.

SUPPLEMENTARY INFORMATION: On March 7, 2012, the Department of Commerce (“Department”) published the Preliminary Results. On June 6, 2012, the Department extended the time limit for these final results by 60 days.

From March 16 through March 30, 2012, the Department placed certain surrogate value information on the record. On March 26, mandatory respondents Nha Trang Seaproduct Group ² and Minh Phu Group,³ commented on this surrogate value information.

² Nha Trang Seaproduct Company (“Nha Trang Seafoods”), NT Seafoods Corporation (“Factory 440”),Nhatrang Seafoods—F89 Joint Stock Company (“Factory 89”), and NTSF Seafoods Joint Stock Company (“Factory 461”).

³ Minh Phu Seafood Corporation (“Minh Phu”), Minh Qui Seafood Co., Ltd. (“Minh Qui”) and Minh Phat Seafood Co., Ltd. (“Minh Phat”).

On April 5, 2012, the American Shrimp Processors Association (“ASPA”) and Nha Trang Seaproduct Group and Minh Phu Group submitted additional surrogate value information. On April 13, 2012, Domestic Producers ⁴ submitted rebuttal surrogate value comments.

⁴ The Domestic Producers are the Ad Hoc Shrimp Trade Action Committee members: Nancy Edens; Papa Rod, Inc.; Carolina Seafoods; Bosarge Boats, Inc.; Knight's Seafood Inc.; Big Grapes, Inc.; Versaggi Shrimp Co.; and Craig Wallis.

In the Preliminary Results, we gave interested parties an opportunity to comment. On June 13, 2012, Domestic Producers, Nha Trang Seaproduct Group and Minh Phu Group, the ASPA, and Gallant Ocean (Vietnam) Co., Ltd. submitted case briefs. On June 28, 2012, Domestic Producers, Nha Trang Seaproduct Group and Minh Phu Group, and the ASPA submitted rebuttal briefs.

Analysis of Comments Received

All issues raised in the case and rebuttal briefs by parties to this review are addressed in the memorandum entitled, “Issues and Decision Memorandum for the Final Results in the 6th Administrative Review of Certain Frozen Warmwater Shrimp from the Socialist Republic of Vietnam,” which is dated concurrently with and adopted by this notice (“Decision Memorandum”). A list of the issues which parties raised, and to which we respond in the Decision Memorandum is attached to this notice as Appendix I. The Decision Memorandum is a public document and is on file electronically via Import Administration's Antidumping and Countervailing Duty Centralized Electronic Service System (IA ACCESS). IA ACCESS is available to registered users at http://iaaccess.trade.gov and in the Central Records Unit (“CRU”), room 7046 of the main Department of Commerce building. In addition, a complete version of the Decision Memorandum can be accessed directly on the internet at http://www.trade.gov/ia/. The signed Decision Memorandum and the electronic versions of the Decision Memorandum are identical in content.

Period of Review

The Period of Review (“POR”) is February 1, 2010, through January 31, 2011.

Changes Since the Preliminary Results

The Department has made changes to the preliminary margin calculation. Specifically, we:

• Applied the corrected shrimp price data from the Network of Aquaculture Centres in Asia-Pacific 2011 Shrimp Price Study to value raw shrimp; ⁵

⁵ See Decision Memorandum at Comment 2-A.

• Corrected calculation errors in the Preliminary Results for the Minh Phu Group and Nha Trang Seaproducts Group; ⁶

⁶ See Decision Memorandum at Comments 6.

• Incorporated the corrections for errors in Nha Trang Seaproducts Group's U.S. Sales and Factors of Production databases discovered or reported at verification; ⁷

⁷ See Decision Memorandum at Comment 7.

• Made corrections to the names and “also-known-as” names for certain companies ⁸ and revised our draft customs instructions ⁹ to reflect these corrections to the respondents' names;

⁸ See Decision Memorandum at Comment 9.

⁹ See Memorandum from Toni Dach, to The File, dated April 20, 2012, Regarding Sixth Antidumping Duty Administrative Review of Certain Frozen Warmwater Shrimp from the Socialist Republic of Vietnam: Draft of U.S. Customs and Border Protection (“CBP”) Instructions.

• Applied the correct surrogate value for the input Proxitane;¹⁰

¹⁰ See Decision Memorandum at Comment 2-F.

• Used data from Dhaka Electric Supply Company to value electricity; ¹¹

¹¹ See Decision Memorandum at Comment 2-B.

• Used data from Doing Business 2012: Indonesia to value document preparation fees, and used a container weight of ten metric tons to calculate a per-kilogram value for document preparation expenses.¹²

¹² See Decision Memorandum at Comment 2-D.

Scope of the Order

The scope of the order includes certain frozen warmwater shrimp and prawns, whether wild-caught (ocean harvested) or farm-raised (produced by aquaculture), head-on or head-off, shell-on or peeled, tail-on or tail-off,¹³ deveined or not deveined, cooked or raw, or otherwise processed in frozen form.

¹³ “Tails” in this context means the tail fan, which includes the telson and the uropods.

The frozen warmwater shrimp and prawn products included in the scope of the order, regardless of definitions in the Harmonized Tariff Schedule of the United States (“HTSUS”), are products which are processed from warmwater shrimp and prawns through freezing and which are sold in any count size.

The products described above may be processed from any species of warmwater shrimp and prawns. Warmwater shrimp and prawns are generally classified in, but are not limited to, the Penaeidae family. Some examples of the farmed and wild-caught warmwater species include, but are not limited to, whiteleg shrimp (Penaeus vannemei), banana prawn (Penaeus merguiensis), fleshy prawn (Penaeus chinensis), giant river prawn (Macrobrachium rosenbergii), giant tiger prawn (Penaeus monodon), redspotted shrimp (Penaeus brasiliensis), southern brown shrimp (Penaeus subtilis), southern pink shrimp (Penaeus notialis), southern rough shrimp (Trachypenaeus curvirostris), southern white shrimp (Penaeus schmitti), blue shrimp (Penaeus stylirostris), western white shrimp (Penaeus occidentalis), and Indian white prawn (Penaeus indicus).

Frozen shrimp and prawns that are packed with marinade, spices or sauce are included in the scope of the order. In addition, food preparations, which are not “prepared meals,” that contain more than 20 percent by weight of shrimp or prawn are also included in the scope of the order.

Excluded from the scope are: (1) Breaded shrimp and prawns (HTS subheading 1605.20.10.20); (2) shrimp and prawns generally classified in the Pandalidae family and commonly referred to as coldwater shrimp, in any state of processing; (3) fresh shrimp and prawns whether shell-on or peeled (HTS subheadings 0306.23.00.20 and 0306.23.00.40); (4) shrimp and prawns in prepared meals (HTS subheading 1605.20.05.10); (5) dried shrimp and prawns; (6) canned warmwater shrimp and prawns (HTS subheading 1605.20.10.40); (7) certain dusted shrimp; ¹⁴ and 8) certain battered shrimp. Dusted shrimp is a shrimp-based product: (1) That is produced from fresh (or thawed-from-frozen) and peeled shrimp; (2) to which a “dusting” layer of rice or wheat flour of at least 95 percent purity has been applied; (3) with the entire surface of the shrimp flesh thoroughly and evenly coated with the flour; (4) with the non-shrimp content of the end product constituting between four and 10 percent of the product's total weight after being dusted, but prior to being frozen; and (5) that is subjected to IQF freezing immediately after application of the dusting layer. Battered shrimp is a shrimp-based product that, when dusted in accordance with the definition of dusting above, is coated with a wet viscous layer containing egg and/or milk, and par-fried.

¹⁴ On April 26, 2011, the Department amended the antidumping duty order to include dusted shrimp, pursuant to the U.S. Court of International Trade (“CIT”) decision in Ad Hoc Shrimp Trade Action Committee v. United States, 703 F. Supp. 2d 1330 (CIT 2010) and the U.S. International Trade Commission (“ITC”) determination, which found the domestic like product to include dusted shrimp. Because the amendment of the antidumping duty order occurred after this POR, dusted shrimp continue to be excluded in this review. See Certain Frozen Warmwater Shrimp From Brazil, India, the People's Republic of China, Thailand, and the Socialist Republic of Vietnam: Amended Antidumping Duty Orders in Accordance with Final Court Decision, 76 FR 23277 (April 26, 2011); see also, Ad Hoc Shrimp Trade Action Committee v. United States, 703 F. Supp. 2d 1330 (CIT 2010) and Frozen Warmwater Shrimp from Brazil, China, India, Thailand, and Vietnam (Investigation Nos. 731-TA-1063, 1064, 1066-1068 (Review), USITC Publication 4221, March 2011.

The products covered by the order are currently classified under the following HTSUS subheadings: 0306.13.00.03, 0306.13.00.06, 0306.13.00.09, 0306.13.00.12, 0306.13.00.15, 0306.13.00.18, 0306.13.00.21, 0306.13.00.24, 0306.13.00.27, 0306.13.00.40, 1605.20.10.10 and 1605.20.10.30. These HTSUS subheadings are provided for convenience and for customs purposes only and are not dispositive, but rather the written description of the scope of the order is dispositive.

Rescission of Review, in Part

In the Preliminary Results, the Department preliminarily rescinded this review with respect to Quoc Viet Seaproducts Processing Trading Import and Export Co., Ltd. (“Quoc Viet”), Nam Hai Foodstuff and Export Company Ltd. (“Nam Hai”) and Vinh Loi Import Export Company (“Vinh Loi”) because these companies reported that they made no shipments of subject merchandise during the POR. We have not received any information to contradict these statements. Therefore, the Department is rescinding this review with respect to Quoc Viet, Nam Hai, and Vinh Loi.

In addition, in the Preliminary Results, the Department preliminarily rescinded this review with respect to Thong Thuan Company Limited (“Thong Thuan”), as all of Thong Thuan's shipments of subject merchandise during the POR were under review in the 2010-2011 new shipper review of certain frozen warmwater shrimp from Vietnam. As the 2010-2011 new shipper review of certain frozen warmwater shrimp from Vietnam covering Thong Thuan has concluded,¹⁵ the Department is rescinding this review with respect to Thong Thuan because all of its entries during the POR have been reviewed.

¹⁵ See Certain Frozen Warmwater Shrimp From the Socialist Republic of Vietnam: Final Results of Antidumping Duty New Shipper Review, 77 FR 20358 (April 4, 2012).

Separate Rates Determination

In our Preliminary Results, we determined that 31 companies ¹⁶ (“Separate Rate Respondents”) met the criteria for separate rate status. We have not received any information since the issuance of the Preliminary Results that provides a basis for reconsidering this preliminary determination. Therefore, the Department continues to find that these 31 companies meet the criteria for a separate rate.

¹⁶ See Appendix II.

Rate for Non-Selected Companies

We selected The Minh Phu Group and Nha Trang Seaproducts Group as mandatory respondents in this review.¹⁷ The statute and the Department's regulations do not directly address the establishment of a rate to be applied to companies not selected for individual examination where the Department limited its examination in an administrative review pursuant to section 777A(c)(2) of the Act. The Department's practice in cases involving limited selection based on exporters accounting for the largest volumes of trade has been to look to section 735(c)(5) of the Act for guidance, which provides instructions for calculating the all-others rate in an investigation. Section 735(c)(5)(A) of the Act instructs that we are not to calculate an all-others rate using any zero or de minimis margins or any margins based entirely on facts available. Section 735(c)(5)(B) of the Act also provides that, where all margins are zero rates, de minimis rates, or rates based entirely on facts available, we may use “any reasonable method” for assigning the rate to non-selected respondents. In this instance, we have calculated rates above de minimis for The Minh Phu Group and Nha Trang Seaproducts Group.

¹⁷ See Preliminary Results.

Consistent with the Department's practice, we have assigned the average rate calculated for The Minh Phu Group and Nha Trang Seaproducts Group to the Separate Rate Respondents. Because the rates calculated for The Minh Phu Group and Nha Trang Seaproducts Group have changed since the Preliminary Results, the margin assigned to the Separate Rate Respondents has also changed accordingly.

Vietnam-Wide Entity

In the Preliminary Results, we determined that 30 companies failed to demonstrate their eligibility for a separate rate. In NME proceedings, “‘rates' may consist of a single dumping margin applicable to all exporters and producers.” ¹⁸ Therefore, we assigned the entity a rate of 25.76%, the only rate ever determined for the Vietnam-wide entity in this proceeding. We have not received any information since issuance of the Preliminary Results that provides a basis for reconsidering this determination, and will therefore continue to apply the entity rate of 25.76% to these 30 companies.

¹⁸ See 19 CFR 351.107(d).

Final Results of Review

The dumping margins for the POR are as follows:

Exporter | Simple average margin (percent)
Minh Phu Group: | 1.27
Minh Phat Seafood Co., Ltd. aka
Minh Phat Seafood aka
Minh Phu Seafood Export Import Corporation (and affiliates Minh Qui Seafood Co., Ltd. and Minh Phat Seafood Co., Ltd.) aka
Minh Phu Seafood Corp. aka
Minh Phu Seafood Corporation aka
Minh Qui Seafood aka
Minh Qui Seafood Co., Ltd.
Minh Phu Seafood Pte aka
Minh Phat aka
Minh Qui
Minh Phu Hau Giang Seafood Co., Ltd.
Nha Trang Seafoods Group: | 1.23
Nha Trang Seaproduct Company (“Nha Trang Seafoods”) aka
Nha Trang Seafoods aka
Nha Trang Seafood Product Company aka
Nha Trang Seaproduct Company Nha Trang Seafoods aka
NT Seafoods Corporation (“NT Seafoods”) aka
Nha Trang Seafoods—F.89 Joint Stock Company (“Nha Trang Seafoods—F.89”)
aka
NTSF Seafoods Joint Stock Company (“NTSF Seafoods”)
Amanda Foods (Vietnam) Limited (“Amanda Foods”) | 1.25
Bac Lieu Fisheries Company Limited aka | 1.25
Bac Lieu Fisheries Company Limited (“Bac Lieu”) aka
Bac Lieu Fisheries Joint Stock Company aka
Bac Lieu Fisheries Limited Company aka
Bac Lieu Fisheries Company Limited aka
Bac Lieu Fis
Camau Frozen Seafood Processing Import Export Corporation (“CAMIMEX”) aka | 1.25
Camimex aka
Camau Seafood Factory No. 4 aka
Camau Seafood Factory No. 5 aka
Camau Frozen Seafood Processing Import & Export aka
Camau Frozen Seafood Processing Import Export Corp. (CAMIMEX-FAC 25) aka
Frozen Factory No. 4 aka
Camau Frozen Seafood Processing Import Export Corporation (“CAMIMEX”) aka
Camimex aka
Camau Frozen Seafood Processing Import Export Corporation
C.P. Vietnam Livestock Company Limited aka | 1.25
C.P. Vietnam Livestock Corporation (“C.P. Vietnam”) aka
C.P. Vietnam Livestock Corporation aka
C.P. Vietnam Livestock Co. Ltd.
Cadovimex Seafood Import-Export and Processing Joint Stock Company (“CADOVIMEX-VIETNAM”) aka | 1.25
Cadovimex Seafood Import- Export and Processing Joint Stock Company aka
Cadovimex-Vietnam aka
Cadovimex aka
Cai Doi Vam Seafood Import-Export Company aka
Cai Doi Vam Seafood Import-Export Company (“Cadovimex”) aka
Cai Doi Vam Seafood Import-Export Company (Cadovimex) aka
Cai Doi Vam Seafood aka
Cai Doi Vam Seafood Im-Ex Company (Cadovimex) aka
Cai Doi Vam Seafood Processing Factory aka
Caidoivam Seafood Company (Cadovimex) aka
Caidoivam Seafood Im-Ex Co.
Cafatex Fishery Joint Stock Corporation (“Cafatex Corp.”) aka | 1.25
Cafatex Fishery Joint Stock Corporation (“CAFATEX CORP.”) aka
Cantho Animal Fisheries Product Processing Export Enterprise (Cafatex) aka
Cafatex aka
Cafatex Vietnam aka
Xi Nghiep Che Bien Thuy Suc San Xuat Kau Cantho aka
Cas aka
Cas Branch aka
Cafatex Saigon aka
Cafatex Fishery Joint Stock Corporation aka
Cafatex Corporation aka
Taydo Seafood Enterprise aka
Cafatex Corp. aka
Cafatex Corporation
Cam Ranh Seafoods Processing Enterprise Company (“Camranh Seafoods”) aka | 1.25
Camranh Seafoods
Can Tho Agricultural and Animal Products Import Export Company (“CATACO”) aka | 1.25
CATACO Sole Member Limited Liability Company aka
Can Tho Agricultural and Animal Product Import Export Company (“CATACO”)
aka
Can Tho Agricultural Products aka
CATACO aka
Can Tho Agricultural and Animal Products Imex Company
Can Tho Import Export Fishery Limited Company (“CAFISH”) | 1.25
Coastal Fishery Development aka | 1.25
Coastal Fisheries Development Corporation (“Cofidec”) aka
Coastal Fisheries Development Corporation (Cofidec) aka
COFIDEC aka
Coastal Fisheries Development Corporation aka
Coastal Fisheries Development Co. aka
Coastal Fisheries Development Corp.
Cuulong Seaproducts Company (“Cuu Long Seapro”) aka | 1.25
Cuu Long Seaproducts Limited (“Cuulong Seapro”) aka
Cuulong Seapro aka
Cuulong Seaproducts Company aka
Cuulong Seaproducts Company (“Cuulong Seapro”) aka
Cuu Long Seaproducts Company (“Cuu Long Seapro”) aka
Cuu Long Seaproducts Company aka
Cuu Long Seapro aka
Cuulong Seaproducts Company (“Cuu Long Seapro”) aka
Cuu Long Seaproducts Limited (Cuulong Seapro) aka
Cuulong Seapro aka
Cuulong Seaproduct Company
Danang Seaproducts Import Export Corporation (“Seaprodex Danang”) aka | 1.25
Danang Seaproducts Import Export Corporation aka
Danang Seaproduct Import-Export Corporation aka
Danang Seaproducts Import Export aka
Danang Sea Products Import Export Corporation aka
Tho Quang Seafood Processing & Export Company aka
Seaprodex Danang aka
Tho Quang Seafood Processing and Export Company aka
Tho Quang aka
Tho Quang Co.
Gallant Ocean (Vietnam) Co., Ltd. aka | 1.25
Gallant Ocean (Quang Ngai) Co. Ltd.
Viet I-Mei Frozen Foods Co., Ltd. aka | 1.25
Viet I-Mei Frozen Foods Co. Ltd. aka
Viet I-Mei aka
Grobest & I-Mei Industrial (Vietnam) Co., Ltd. aka
Grobest & I-Mei Industry (Vietnam) Co., Ltd. aka
Grobest
Investment Commerce Fisheries Corporation (“Incomfish”) aka | 1.25
Incomfish aka
Investment Commerce Fisheries Corp. aka
Incomfish Corp. aka
Incomfish Corporation aka
Investment Commerce Fisheries aka
Investment Commerce Fisheries Corporation aka
Incomfish Corporation
Kim Anh Company Limited (“Kim Anh”) | 1.25
Minh Hai Export Frozen Seafood Processing Joint Stock Company aka | 1.25
Minh Hai Jostoco aka
Minh Hai Export Frozen Seafood Processing Joint-Stock Company (“Minh Hai Jostoco”) aka
Minh Hai Export Frozen Seafood Processing Joint Stock Company (“Minh Hai Jostoco”) aka
Minh Hai Export Frozen Seafood Processing Joint-Stock Company aka
Minh Hai Joint Stock Seafood Processing Joint-Stock Company aka
Minh Hai Export Frozen Seafood Processing Joint-Stock Co. aka
Minh-Hai Export Frozen Seafood Processing Joint-Stock Company
Minh Hai Joint-Stock Seafoods Processing Company (“Seaprodex Minh Hai”) aka | 1.25
Sea Minh Hai aka
Minh Hai Joint-Stock Seafoods Processing Company aka
Seaprodex Minh Hai aka
Seaprodex Min Hai aka
Seaprodex Minh Hai (Minh Hai Joint Stock Seafoods Processing Co.) aka
Seaprodex Minh Hai Factory aka
Seaprodex Minh Hai Factory No. 69 aka
Seaprodex Minh Hai Workshop 1 aka
Seaprodex Minh Hai-Factory No. 78 aka
Workshop I Seaprodex Minh Hai
Minh Hai Sea Products Import Export Company (“Seaprimex Co”) aka | 1.25
Ca Mau Seafood Joint Stock Company (“SEAPRIMEXCO”) aka
Seaprimexco Vietnam aka
Seaprimexco aka
Seaprimex Co aka
Ca Mau Seafood Joint Stock Company (“Seaprimexco”) aka
Minh Hai Seaproducts Import Export Corporation aka
Seaprimexco aka
Minh Hai Seaproducts Co Ltd. (Seaprimexco) aka
Ca Mau Seafood Joint Stock Company (“Seaprimexco Vietnam”)
Ngoc Sinh Private Enterprise aka | 1.25
Ngoc Sinh Seafoods aka
Ngoc Sinh Seafoods Processing and Trading Enterprise aka
Ngoc Sinh Fisheries aka
Ngoc Sinh Private Enterprises aka
Ngoc Sinh Seafoods Processing and Trading Enterprises aka
Ngoc Sinh aka
Ngoc Sinh Seafood Processing Company aka
Ngoc Sinh Seafoods (Private Enterprise)
Ngoc Tri Seafood Joint Stock Company | 1.25
Nhat Duc Co., Ltd. aka | 1.25
Nhat Duc Co., Ltd. (“Nhat Duc”)
Nha Trang Fisheries Joint Stock Company (“Nha Trang Fisco”) aka | 1.25
Nha Trang Fisheries Joint Stock Company aka
Nhatrang Fisheries Joint Stock Company aka
Nha Trang Fisco aka
Nhatrang Fisco aka
Nha Trang Fisheries Joint Stock Company (“Nha Trang Fisco”) aka
Nha Trang Fisheries, Joint Stock aka
Nha Trang Fishereies Joint Stock Company (Nha Trang Fisco)
Phu Cuong Seafood Processing and Import-Export Co., Ltd. aka | 1.25
Phu Cuong Seafood Processing and Import Export Company Limited aka
Phu Cuong Jostoco Corp. aka
Phu Cuong Jostco Seafood Corporation
Phuong Nam Co., Ltd. (“Phuong Nam”) aka | 1.25
Western Seafood Processing and Exporting Factory (“Western Seafood”) aka
Phuong Nam Foodstuff Corp. aka
Phuong Nam Co. Ltd.
Sao Ta Foods Joint Stock Company (“Fimex VN”) aka | 1.25
Sao Ta Foods Joint Stock Company aka
Fimex VN aka
Sao Ta Seafood Factory aka
Saota Seafood Factory
Soc Trang Aquatic Products and General Import Export Company (“Stapimex”) aka | 1.25
Soc Trang Seafood Joint Stock Company (“Stapimex”) aka
Soc Trang Seafood Joint Stock Company aka
Soc Trang Aquatic Products and General Import Export Company aka
Stapimex aka
Soc Trang Aquatic Products and General Import Export Company—(Stapimex) aka
Stapimex Soc Trans Aquatic Products and General Import Export Company aka
Stapmex
Thuan Phuoc Seafoods and Trading Corporation aka | 1.25
Thuan Phoc Corp. aka
Frozen Seafoods Factory No. 32 aka
Seafoods and Foodstuff Factory aka
My Son Seafoods Factory aka
Seafoods and Foodstuff Factory Vietnam
UTXI Aquatic Products Processing Company aka | 1.25
UT XI Aquatic Products Processing Company aka
UT-XI Aquatic Products Processing Company aka
UTXI aka
UTXI Co. Ltd. aka
Khanh Loi Seafood Factory aka
Hoang Phuong Seafood Factory aka
UTXI Aquatic Products Processing Corporation (“UTXICO”) aka
UTXI Aquatic Products Processing Corporation aka
UTXICO
Viet Foods Co., Ltd. aka | 1.25
Nam Hai Foodstuff and Export Company Ltd.
Viet Hai Seafood Co., Ltd. aka | 1.25
Vietnam Fish One Co., Ltd. (“Fish One”) aka
Viet Hai Seafoods Company Ltd. (“Vietnam Fish One Co. Ltd.”)
Vietnam Clean Seafood Corporation aka | 1.25
VINA Cleanfood
Vietnam-wide Entity | 25.76

Assessment

Upon issuance of the final results, the Department will determine, and U.S. Customs and Border Protection (“CBP”) shall assess, antidumping duties on all appropriate entries. The Department intends to issue assessment instructions to CBP 15 days after the date of publication of the final results of review. Pursuant to 19 CFR 351.212(b)(1), we will calculate importer-specific (or customer) ad valorem duty assessment rates based on the ratio of the total amount of the dumping margins calculated for the examined sales to the total entered value of those same sales. In accordance with 19 CFR 351.106(c)(2), we will instruct CBP to liquidate, without regard to antidumping duties, all entries of subject merchandise during the POR for which the importer-specific assessment rate is zero or de minimis.

Cash Deposit Requirements

The following cash deposit requirements will be effective upon publication of the final results of this administrative review for all shipments of the subject merchandise entered, or withdrawn from warehouse, for consumption on or after the publication date, as provided for by section 751(a)(2)(C) of the Act: (1) For the exporters listed above, the cash deposit rate will be the rate established in the final results of review (except, if the rate is zero or de minimis, i.e., less than 0.5 percent, a zero cash deposit rate will be required for that company); (2) for previously investigated or reviewed Vietnamese and non-Vietnamese exporters not listed above that have separate rates, the cash deposit rate will continue to be the exporter-specific rate published for the most recent period; (3) for all Vietnamese exporters of subject merchandise which have not been found to be entitled to a separate rate, the cash deposit rate will be the Vietnam-wide rate of 25.76 percent; and (4) for all non-Vietnamese exporters of subject merchandise which have not received their own rate, the cash deposit rate will be the rate applicable to the Vietnamese exporters that supplied that non-Vietnamese exporter. The deposit requirements, when imposed, shall remain in effect until further notice.

Reimbursement of Duties

This notice also serves as a final reminder to importers of their responsibility under 19 CFR 351.402(f) to file a certificate regarding the reimbursement of antidumping duties prior to liquidation of the relevant entries during this POR. Failure to comply with this requirement could result in the Department's presumption that reimbursement of antidumping duties has occurred and the subsequent assessment of doubled antidumping duties.

Administrative Protective Orders

This notice also serves as a reminder to parties subject to administrative protective order (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

We are issuing and publishing this administrative review and notice in accordance with sections 751(a)(1) and 777(i) of the Act.

Dated: September 4, 2012.
Ronald K. Lorentzen,
Acting Assistant Secretary for Import Administration.

Appendix I

Comment 1: Surrogate Country

Comment 2: Surrogate Values

A. Shrimp

B. Electricity

C. Labor

D. Document Preparation Fees

E. Surrogate Financial Ratios

F. Proxitane

Comment 3: Zeroing

Comment 4: Calculation of the Separate Rate

Comment 5: Minh Phu Group's Reporting Methodologies

A. Farmed Shrimp

B. Block Frozen Shrimp

C. Merchandise Produced Outside the POR

D. Raw Shrimp FOP

E. Direct Selling Expenses and Returns

Comment 6: Errors in the Preliminary Results

Comment 7: Nha Trang Verification Corrections

Comment 8: Nha Trang's Domestic Sales

Comment 9: Corrections to Company Names

Appendix II

• Amanda Foods (Vietnam) Limited

• Bac Lieu Fisheries Joint Stock Company

• C.P. Vietnam Livestock Corporation

• Cafatex Fishery Joint Stock Corporation, aka Cafatex Corp.

• Cadovimex Seafood Import-Export and Processing Joint Stock Company, aka CADOVIMEX-VIETNAM

• Ca Mau Seafood Joint Stock Company, aka Seaprimexco Vietnam

• Camau Frozen Seafood Processing Import Export Corp.

• Camranh Seafoods and Branch of Cam Ranh; Can Tho Import Export Fishery Limited Company, aka CAFISH

• CATACO Sole Member Limited Liability Company, aka CATACO

• Coastal Fisheries Development Corporation, aka COFIDEX

• Cuulong Seaproducts Company, aka Cuulong Seapro

• Danang Seaproducts Import Export Corporation, aka Seaprodex Danang and its branch Tho Quang Seafood Processing and Export Company

• Viet I-Mei Frozen Foods Co., Ltd.

• Gallant Ocean (Vietnam) Co. Ltd.

• Investment Commerce Fisheries Corporation, aka INCOMFISH

• Kim Anh Company, Limited

• Minh Hai Export Frozen Seafood Processing Joint Stock Company, aka Minh Hai Jostoco

• Minh Hai Joint-Stock Seafoods Processing Company, aka Seaprodex Minh Hai

• Ngoc Sinh Private Enterprise and its branch, Ngoc Sinh Seafoods Processing and Trading Enterprise, aka Ngoc Sinh Seafoods

• Ngoc Tri Seafood Joint Stock Company

• Nhat Dhuc Co., Ltd.

• Nha Trang Fisheries Joint Stock Company, aka Nha Trang Fisco

• Phu Cuong Jostoco Seafood Corporation

• Phuong Nam Foodstuff Corp., aka Phuong Nam Co., Ltd.

• Sao Ta Foods Joint Stock Company, aka FIMEX VN

• Soc Trang Seafood Joint Stock Company, aka STAPIMEX

• Thuan Phuoc Seafoods and Trading Corporation

• UTXI Aquatic Products Corporation, aka UTXICO

• Vietnam Clean Seafood Corporation, aka VINA Cleanfood

• Viet Hai Seafood Co., Ltd., a/k/a Vietnam Fish One Co., Ltd.

[FR Doc. 2012-22357 Filed 9-10-12; 8:45 am]

BILLING CODE 3510-DS-P